DEPARTMENT OF COMMERCE

International Trade Administration

[A-570-088]

Certain Steel Racks and Parts Thereof From the People's Republic of China: Final Affirmative Determination of Sales at Less Than Fair Value

SUMMARY: The Department of Commerce (Commerce) determines that imports of certain steel racks and parts thereof (steel racks) from the People's Republic of China (China) are being, or are likely to be, sold in the United States at less than fair value (LTFV).

DATES: Applicable July 24, 2019.

FOR FURTHER INFORMATION CONTACT: Maliha Khan or Ariela Garvett, AD/CVD Operations, Office IV, Enforcement and Compliance, International Trade Administration, U.S. Department of Commerce, 1401 Constitution Avenue NW, Washington, DC 20230; telephone: (202) 482-0895 or (202) 482-3609, respectively.

SUPPLEMENTARY INFORMATION:

Background

The petitioner in this investigation is the Coalition for Fair Rack Imports (the petitioner). The mandatory respondent in this investigation is Nanjing Dongsheng Shelf Manufacturing Co., Ltd. (Dongsheng). On March 4, 2019, Commerce published its Preliminary Determination for this investigation and invited interested parties to comment.¹ A summary of the events that occurred since Commerce published the Preliminary Determination may be found in the Issues and Decision Memorandum.² The Issues and Decision Memorandum is a public document and is on file electronically via Enforcement and Compliance's Antidumping and Countervailing Duty Centralized Electronic Service System (ACCESS). ACCESS is available to registered users at http://access.trade.gov and it is available to all parties in the Central Records Unit, Room B8024 of the main Commerce building. In addition, a complete version of the Issues and Decision Memorandum can be accessed directly at http://enforcement.trade.gov/frn/. The signed Issues and Decision Memorandum and the electronic version are identical in content.

¹ See Steel Racks and Parts Thereof from the People's Republic of China: Preliminary Determination of Sales at Less than Fair Value, 84 FR 7326 (March 4, 2019) (Preliminary Determination) and accompanying Preliminary Decision Memorandum (Preliminary Decision Memorandum).

² See Memorandum, “Issues and Decision Memorandum for the Final Affirmative Determination in the Less-Than-Fair-Value Investigation of Steel Racks and Parts Thereof from the People's Republic of China,” dated concurrently with, and hereby adopted by, this notice (Issues and Decision Memorandum).

Period of Investigation

The period of investigation (POI) is October 1, 2017 through March 31, 2018.

Scope of the Investigation

The products covered by this investigation are steel racks from China. For a full description of the scope of this investigation, see the “Scope of the Investigation,” at Appendix I. We have made no changes to the scope of this investigation since the Preliminary Determination.

Verification

As provided in section 782(i) of the Tariff Act of 1930, as amended (the Act), Commerce verified the sales and factors of production data reported by the sole participating mandatory respondent, Nanjing Dongsheng Shelf Manufacturing Co., Ltd.'s (Dongsheng), for use in our final determination. We used standard verification procedures, including an examination of relevant accounting and production records, and original source documents provided by Dongsheng.

Analysis of Comments Received

In response to our invitation to comment on the Preliminary Determination, interested parties submitted case and rebuttal briefs to Commerce, as well as scope case and rebuttal briefs. All issues raised in the case and rebuttal briefs and the scope case and rebuttal briefs that were submitted by parties in this investigation are addressed in the Issues and Decision Memorandum. A list of the issues addressed in the Issues and Decision Memorandum is attached to this notice at Appendix II.

Changes Since the Preliminary Determination

Based on our analysis of the comments received and verification, we made certain changes to the Preliminary Determination For a discussion of these changes, see the Issues and Decision Memorandum.

Separate Rates

No parties commented on our decision in the Preliminary Determination to grant separate rate status to 32 companies, including Dongsheng, and to deny a separate rate to seven companies. However, subsequent to the Preliminary Determination, we determined that one company to which we preliminarily granted a separate rate, Xiamen Aifeimetal Manufacturing Co., Ltd., did not sell subject merchandise to the United States during the POI. Thus, we have not granted Aifeimetal a separate rate in this final determination. The exporters granted separate rate status in this final determination are listed in the table in the “Final Determination” section of this notice. We continue to assign the estimated weighted-average dumping margin calculated for Dongsheng to the exporters not individually examined that are entitled to a separate rate. The companies ³ denied a separate rate will be treated as part of the China-wide entity whose estimated weighted-average dumping margin, for the reasons explained, and as corroborated, in the Preliminary Determination, is based on total adverse facts available pursuant to sections 776(a) and (b) of the Act.

³ Those companies are: (1) Jiangsu Kingmore Storage Equipment Manufacturing Co., Ltd.; (2) Nanjing Huade Storage Equipment Manufacturing Co., Ltd.; (3) Nanjing Inform Storage Equipment (Group) Co., Ltd.; (4) Redman USA, Inc.; (5) Tangshan Apollo Energy Equipment Company, Ltd.; (6) Xiamen PDF Co., Ltd.; (7) Zhangzhou URB Fabricating Co., Ltd.; and (8) Xiamen Aifeimetal Manufacturing Co., Ltd.

Combination Rates

As explained in the Initiation Notice and implemented in the Preliminary Determination, we have continued to calculate producer/exporter combination rates for the respondents that are eligible for a separate rate.⁴ Policy Bulletin 05.1 describes this practice.⁵

⁴ See Steel Racks from the People's Republic of China: Initiation of Less-Than-Fair-Value Investigation, 83 FR 33199 (July 17, 2018) (Initiation Notice); see also Preliminary Determination, 84 FR at 7327.

⁵ See Enforcement and Compliance's Policy Bulletin No. 05.1, regarding, “Separate-Rates Practice and Application of Combination Rates in Antidumping Investigations involving Non-Market Economy Countries,” (April 5, 2005) (Policy Bulletin 05.1), available on Commerce's website at http://enforcement.trade.gov/policy/bull05-1.pdf.

Final Determination

The final estimated weighted-average dumping margins are as follows:

Exporter | Producer | Estimated weighted-average dumping margin (percent)
Nanjing Dongsheng Shelf Manufacturing Co., Ltd | Nanjing Dongsheng Shelf Manufacturing Co., Ltd | 18.06
Ateel Display Industries (Xiamen) Co., Ltd | Ateel Display Industries (Xiamen) Co., Ltd | 18.06
CTC Universal (Zhangzhou) Industrial Co., Ltd | CTC Universal (Zhangzhou) Industrial Co., Ltd | 18.06
David Metal Craft Manufactory Ltd | David Metal Craft Manufactory Ltd | 18.06
Guangdong Wireking Housewares and Hardware Co., Ltd | Guangdong Wireking Housewares and Hardware Co., Ltd | 18.06
Hebei Minmetals Co., Ltd | Hebei Wuxin Garden Products Co., Ltd | 18.06
Hebei Minmetals Co., Ltd | Huanghua Xinxing Furniture Co., Ltd | 18.06
Hebei Minmetals Co., Ltd | Huanghua Xingyu Hardware Products Co., Ltd | 18.06
Hebei Minmetals Co., Ltd | Huangua Qingxin Hardware Products Co., Ltd | 18.06
Hebei Minmetals Co., Ltd | Huangua Haixin Hardware Products Co., Ltd | 18.06
Hebei Minmetals Co., Ltd | Huanghua Hualing Hardware Products Co., Ltd | 18.06
i-Lift Equipment Ltd | Yuanda Storage Equipment Ltd | 18.06
Jiangsu Nova Intelligent Logistics Equipment Co., Ltd | Jiangsu Nova Intelligent Logistics Equipment Co., Ltd | 18.06
Johnson (Suzhou) Metal Products Co., Ltd | Johnson (Suzhou) Metal Products Co., Ltd | 18.06
Master Trust (Xiamen) Import and Export Co., Ltd | Zhangzhou Hongcheng Hardware & Plastic Industry Co., Ltd | 18.06
Nanjing Ironstone Storage Equipment Co., Ltd | Jiangsu Baigeng Logistics Equipments Co., Ltd | 18.06
Nanjing Kingmore Logistics Equipment Manufacturing Co., Ltd | Nanjing Kingmore Logistics Equipment Manufacturing Co., Ltd | 18.06
Nanjing Kingmore Logistics Equipment Manufacturing Co., Ltd | Jiangsu Kingmore Storage Equipment Manufacturing Co., Ltd | 18.06
Ningbo Beilun Songyi Warehouse Equipment Manufacturing Co., Ltd | Ningbo Beilun Songyi Warehouse Equipment Manufacturing Co., Ltd | 18.06
Ningbo Xinguang Rack Co., Ltd | Ningbo Xinguang Rack Co., Ltd | 18.06
Qingdao Rockstone Logistics Appliance Co., Ltd | Qingdao Rockstone Logistics Appliance Co., Ltd | 18.06
Redman Corporation | Redman Corporation | 18.06
Redman Import & Export Limited | Redman Corporation | 18.06
Suzhou (China) Sunshine Hardware & Equipment Imp. & Exp. Co. Ltd | Changzhou Tianyue Storage Equipment Co., Ltd | 18.06
Suzhou (China) Sunshine Hardware & Equipment Imp. & Exp. Co. Ltd | Ningbo Beilun Songyi Warehouse Equipment Manufacturing Co., Ltd | 18.06
Tianjin Master Logistics Equipment Co., Ltd | Tianjin Master Logistics Equipment Co., Ltd | 18.06
Waken Display System Co., Ltd | CTC Universal (Zhangzhou) Industrial Co., Ltd | 18.06
Xiamen Baihuide Manufacturing Co., Ltd | Xiamen Baihuide Manufacturing Co., Ltd | 18.06
Xiamen Ever Glory Fixtures Co., Ltd | Fujian First Industry and Trade Co., Ltd | 18.06
Xiamen Ever Glory Fixtures Co., Ltd | Fujian Ever Glory Fixtures Co., LTD | 18.06
Xiamen Ever Glory Fixtures Co., Ltd | Xiamen Ever Glory Fixtures Co., Ltd | 18.06
Xiamen Golden Trust Industry & Trade Co., Ltd | Xiamen Golden Trust Industry & Trade Co., Ltd | 18.06
Xiamen Kingfull Imp and Exp Co., Ltd. (d.b.a) Xiamen Kingfull Displays Co., Ltd | Xiamen Huiyi Beauty Furniture Co., Ltd | 18.06
Xiamen Kingfull Imp and Exp Co., Ltd. (d.b.a) Xiamen Kingfull Displays Co., Ltd | Xiamen LianHong Industry and Trade Co., Ltd | 18.06
Xiamen LianHong Industry and Trade Co., Ltd | Xiamen LianHong Industry and Trade Co., Ltd | 18.06
Xiamen Luckyroc Industry Co., Ltd | Xiamen Luckyroc Storage Equipment Manufacture Co., Ltd | 18.06
Xiamen Meitoushan Metal Product Co., Ltd | Xiamen Meitoushan Metal Product Co., Ltd | 18.06
Xiamen Power Metal Display Co., Ltd | Xiamen Power Metal Display Co., Ltd | 18.06
Xiamen XinHuiYuan Industrial & Trade Co., Ltd | Xiamen XinHuiYuan Industrial & Trade Co., Ltd | 18.06
Xiamen Yiree Display Fixtures Co., Ltd | Xiamen Yiree Display Fixtures Co., Ltd | 18.06
Zhangjiagang Better Display Co., Ltd | Zhangjiagang Better Display Co., Ltd | 18.06
China-wide entity |  | 144.50

Disclosure

We intend to disclose to interested parties under Administrative Protective Order (APO), the calculations performed in connection with this final determination within five days of any public announcement or, if there is no public announcement, within five days of the date of publication of the notice of final determination in the Federal Register, in accordance with 19 CFR 351.224(b).

Continuation of Suspension of Liquidation

In accordance with section 735(c)(1)(B) of the Act, we will direct U.S. Customs and Border Protection (CBP) to continue to suspend liquidation of steel racks from China, as described in Appendix I of this notice, which were entered, or withdrawn from warehouse, for consumption on or after February 25, 2019, the date of publication in the Federal Register of the affirmative Preliminary Determination. Further, pursuant to section 735(c)(1)(B)(ii) of the Act and 19 CFR 351.210(d), we will instruct CBP to require a cash deposit for estimated antidumping duties for such entries as follows: (1) For the exporter/producer combinations listed in the table above, the cash deposit rate is equal to the estimated weighted-average dumping margin listed for that combination in the table; (2) for all combinations of Chinese exporters/producers not listed in the above table, the cash deposit rate is equal to the estimated weighted-average dumping margin listed in the table for the China-wide entity; and (3) for all non-Chinese exporters not listed in the table above, the cash deposit rate is equal to the cash deposit rate applicable to the Chinese exporter/producer combination (or the China-wide entity) that supplied that non-Chinese exporter.

To determine the cash deposit rate, Commerce normally adjusts the estimated weighted-average dumping margin by the amount of domestic subsidy pass-through and export subsidies determined in a companion countervailing duty (CVD) proceeding when CVD provisional measures are in effect. However, we have not made an affirmative determination for a domestic subsidy pass-through adjustment in this LTFV investigation, nor has Commerce found export subsidies in the companion CVD investigation. Therefore, we have made no offsets to the estimated weighted-average dumping margin for purposes of calculating the appropriate cash deposit rate.

These suspension of liquidation instructions will remain in effect until further notice.

International Trade Commission Notification

In accordance with section 735(d) of the Act, we will notify the International Trade Commission (ITC) of the final affirmative determination of sales at LTFV. Because the final determination is affirmative, in accordance with section 735(b)(2) of the Act, the ITC will make its final determination as to whether the domestic industry in the United States is materially injured, or threatened with material injury, by reason of imports or sales (or the likelihood of sales) for importation of subject steel racks, no later than 45 days after this final determination. If the ITC determines that such injury does not exist, this proceeding will be terminated, and all cash deposited for antidumping duties will be refunded. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Orders

This notice serves as a reminder to the parties subject to APO of their responsibility concerning the disposition of propriety information disclosed under APO in accordance with 19 CFR 351.305(a)(3). Timely written notification of the return or destruction of APO materials or, alternatively, conversion to judicial protective order, is hereby requested. Failure to comply with the regulations and terms of an APO is a violation that is subject to sanction.

Notification to Interested Parties

This determination is issued and published pursuant to sections 735(d) and 777(i)(1) of the Act and 19 CFR 351.210(c).

Dated: July 17, 2019.
James Maeder,
Deputy Assistant Secretary for Antidumping and Countervailing Duty Operations.

Appendix I

Scope of the Investigation

The merchandise covered by this investigation is steel racks and parts thereof, assembled, to any extent, or unassembled, including but not limited to, vertical components (e.g., uprights, posts, or columns), horizontal or diagonal components (e.g., arms or beams), braces, frames, locking devices (e.g., end plates and beam connectors), and accessories (including, but not limited to, rails, skid channels, skid rails, drum/coil beds, fork clearance bars, pallet supports, row spacers, and wall ties).

Subject steel racks and parts thereof are made of steel, including, but not limited to, cold and/or hot-formed steel, regardless of the type of steel used to produce the components and may, or may not, include locking tabs, slots, or bolted, clamped, or welded connections. Subject steel racks have the following physical characteristics:

(1) Each steel vertical and horizontal load bearing member (e.g., arms, beams, posts, and columns) is composed of steel that is at least 0.044 inches thick;

(2) Each steel vertical and horizontal load bearing member (e.g., arms, beams, posts, and columns) is composed of steel that has a yield strength equal to or greater than 36,000 pounds per square inch;

(3) The width of each steel vertical load bearing member (e.g., posts and columns) exceeds two inches; and

(4) The overall depth of each steel roll-formed horizontal load bearing member (e.g., beams) exceeds two inches.

In the case of steel horizontal load bearing members other than roll-formed (e.g., structural beams, Z-beams, or cantilever arms), only the criteria in subparagraphs (1) and (2) apply to these horizontal load bearing members. The depth limitation in subparagraph (4) does not apply to steel horizontal load bearing members that are not roll-formed.

Steel rack components can be assembled into structures of various dimensions and configurations by welding, bolting, clipping, or with the use of devices such as clips, end plates, and beam connectors, including, but not limited to the following configurations: (1) Racks with upright frames perpendicular to the aisles that are independently adjustable, with positive-locking beams parallel to the aisle spanning the upright frames with braces; and (2) cantilever racks with vertical components parallel to the aisle and cantilever beams or arms connected to the vertical components perpendicular to the aisle. Steel racks may be referred to as pallet racks, storage racks, stacker racks, retail racks, pick modules, selective racks, or cantilever racks and may incorporate moving components and be referred to as pallet-flow racks, carton-flow racks, push-back racks, movable-shelf racks, drive-in racks, and drive-through racks. While steel racks may be made to ANSI MH16.l or ANSI MH16.3 standards, all steel racks and parts thereof meeting the description set out herein are covered by the scope of this investigation, whether or not produced according to a particular standard.

The scope includes all steel racks and parts thereof meeting the description above, regardless of

(1) other dimensions, weight, or load rating;

(2) vertical components or frame type (including structural, roll-form, or other);

(3) horizontal support or beam/brace type (including but not limited to structural, roll-form, slotted, unslotted, Z-beam, C-beam, L-beam, step beam, and cantilever beam);

(4) number of supports;

(5) number of levels;

(6) surface coating, if any (including but not limited to paint, epoxy, powder coating, zinc, or other metallic coatings);

(7) rack shape (including but not limited to rectangular, square, corner, and cantilever);

(8) the method by which the vertical and horizontal supports connect (including but not limited to locking tabs or slots, bolting, clamping, and welding); and

(9) whether or not the steel rack has moving components (including but not limited to rails, wheels, rollers, tracks, channels, carts, and conveyors).

Subject merchandise includes merchandise matching the above description that has been finished or packaged in a third country. Finishing includes, but is not limited to, coating, painting, or assembly, including attaching the merchandise to another product, or any other finishing or assembly operation that would not remove the merchandise from the scope of the investigation if performed in the country of manufacture of the steel racks and parts thereof. Packaging includes packaging the merchandise with or without another product or any other packaging operation that would not remove the merchandise from the scope of the investigation if performed in the country of manufacture of the steel racks and parts thereof.

Steel racks and parts thereof are included in the scope of this investigation whether or not imported attached to, or included with, other parts or accessories such as wire decking, nuts, and bolts. If steel racks and parts thereof are imported attached to, or included with, such non-subject merchandise, only the steel racks and parts thereof are included in the scope.

The scope of this investigation does not cover: (1) Decks, i.e., shelving that sits on or fits into the horizontal supports to provide the horizontal storage surface of the steel racks; (2) wire shelving units, i.e., units made from wire that incorporate both a wire deck and wire horizontal supports (taking the place of the horizontal beams and braces) into a single piece with tubular collars that slide over the posts and onto plastic sleeves snapped on the posts to create a finished unit; (3) pins, nuts, bolts, washers, and clips used as connecting devices; and (4) non-steel components.

Specifically excluded from the scope of this investigation are any products covered by Commerce's existing antidumping and countervailing duty orders on boltless steel shelving units prepackaged for sale from the People's Republic of China. See Boltless Steel Shelving Units Prepackaged for Sale From the People's Republic of China: Antidumping Duty Order, 80 FR 63,741 (October 21, 2017); and Boltless Steel Shelving Units Prepackaged for Sale From the People's Republic of China: Amended Final Affirmative Countervailing Duty Determination and Countervailing Duty Order, 80 FR 63,745 (October 21, 2017).

Also excluded from the scope of this investigation are bulk-packed parts or components of boltless steel shelving units that were specifically excluded from the scope of the Boltless Steel Shelving Orders because such bulk-packed parts or components do not contain the steel vertical supports (i.e., uprights and posts) and steel horizontal supports (i.e., beams, braces) packaged together for assembly into a completed boltless steel shelving unit.

Such excluded components of boltless steel shelving are defined as:

(1) Boltless horizontal supports (beams, braces) that have each of the following characteristics: (a) A length of 95 inches or less, (b) made from steel that has a thickness of 0.068 inches or less, and (c) a weight capacity that does not exceed 2500 lbs per pair of beams for beams that are 78″ or shorter, a weight capacity that does not exceed 2200 lbs per pair of beams for beams that are over 78″ long but not longer than 90″, and/or a weight capacity that does not exceed 1800 lbs per pair of beams for beams that are longer than 90″;

(2) shelf supports that mate with the aforementioned horizontal supports; and

(3) boltless vertical supports (upright welded frames and posts) that have each of the following characteristics: (a) A length of 95 inches or less, (b) with no face that exceeds 2.90 inches wide, and (c) made from steel that has a thickness of 0.065 inches or less.

Excluded from the scope of this investigation are: (1) Wall-mounted shelving and racks, defined as shelving and racks that suspend all of the load from the wall, and do not stand on, or transfer load to, the floor; (2) ceiling-mounted shelving and racks, defined as shelving and racks that suspend all of the load from the ceiling and do not stand on, or transfer load to, the floor; and (3) wall/ceiling mounted shelving and racks, defined as shelving and racks that suspend the load from the ceiling and the wall and do not stand on, or transfer load to, the floor. The addition of a wall or ceiling bracket or other device to attach otherwise subject merchandise to a wall or ceiling does not meet the terms of this exclusion.

Also excluded from the scope of this investigation is scaffolding that complies with ANSI/ASSE A10.8—2011—Scaffolding Safety Requirements, CAN/CSA S269.2-M87 (Reaffirmed 2003)—Access Scaffolding for Construction Purposes, and/or Occupational Safety and Health Administration regulations at 29 CFR part 1926 subpart L—Scaffolds.

Also excluded from the scope of this investigation are tubular racks such as garment racks and drying racks, i.e., racks in which the load bearing vertical and horizontal steel members consist solely of: (1) Round tubes that are no more than two inches in diameter; (2) round rods that are no more than two inches in diameter; (3) other tubular shapes that have both an overall height of no more than two inches and an overall width of no more than two inches; and/or (4) wire.

Also excluded from the scope of this investigation are portable tier racks. Portable tier racks must meet each of the following criteria to qualify for this exclusion:

(1) They are freestanding, portable assemblies with a fully welded base and four freely inserted and easily removable corner posts;

(2) They are assembled without the use of bolts, braces, anchors, brackets, clips, attachments, or connectors;

(3) One assembly may be stacked on top of another without applying any additional load to the product being stored on each assembly, but individual portable tier racks are not securely attached to one another to provide interaction or interdependence; and

(4) The assemblies have no mechanism (e.g., a welded foot plate with bolt holes) for anchoring the assembly to the ground.

Also excluded from the scope of this investigation are accessories that are independently bolted to the floor and not attached to the rack system itself, i.e., column protectors, corner guards, bollards, and end row and end of aisle protectors.

Merchandise covered by this investigation is currently classified in the Harmonized Tariff Schedule of the United States (HTSUS) under the following subheadings: 7326.90.8688, 9403.20.0080, and 9403.90.8041. Subject merchandise may also enter under subheadings 7308.90.3000, 7308.90.6000, 7308.90.9590, and 9403.20.0090. The HTSUS subheadings are provided for convenience and U.S. Customs purposes only. The written description of the scope is dispositive.

Appendix II

List of Topics Discussed in the Issues and Decision Memorandum

I. Summary

II. Background

III. Scope Comments

IV. Scope of the Investigation

V. Changes from the Preliminary Determination

VI. Analysis of Comments

Comment 1: Whether Commerce Should Rely on Romania or Brazil as the Surrogate Country

Comment 2: Whether the Compa S.A. Sibiu (Compa) or Metisa Metalurgica Timboense S/A. (Metisa) Financial Statements are a Better Source of Financial Ratios

Comment 3: The Surrogate Value for Dongsheng's P-tube Input

Comment 4: Whether Import Clearance Charges Should be Added to the Surrogate Values

Comment 5: Whether Commerce Should Grant Dongsheng a Double Remedy Offset

Comment 6: Whether Commerce Should Reduce Dongsheng's Export Price by Eight Percent Irrecoverable Value-Added Tax

Comment 7: Whether Aifeimetal Should be Excluded from this Investigation

Comment 8: The Preliminary Scope Determination

VII. Recommendation

[FR Doc. 2019-15718 Filed 7-23-19; 8:45 am]

BILLING CODE 3510-DS-P